SUSQUEHANNA RIVER BASIN COMMISSION

Notice of Projects Approved for Consumptive Uses of Water

AGENCY: Susquehanna River Basin Commission.

ACTION: Notice of approved projects.

SUMMARY: This notice lists the projects approved by rule by the Susquehanna River Basin Commission during the period set forth in DATES.

DATES: July 1, 2009, through August 31, 2009.

ADDRESSES: Susquehanna River Basin Commission, 1721 North Front Street, Harrisburg, PA 17102-2391.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net. Regular mail inquiries may be sent to the above address.

SUPPLEMENTARY INFORMATION: This notice lists the projects, described below, receiving approval for the consumptive use of water pursuant to the Commission's approval by rule process set forth in 18 CFR 806.22(f) for the time period specified above:

Approvals By Rule Issued:

1. Cabot Oil & Gas Corporation, Pad ID: BrooksW P1, ABR-20090701, Dimock Township, Susquehanna County, Pa.; Consumptive Use of up to 3.575 mgd; Approval Date: July 6, 2009.

2. Cabot Oil & Gas Corporation, Pad ID: HullR P1, ABR-20090702, Dimock Township, Susquehanna County, Pa.; Consumptive Use of up to 3.575 mgd; Approval Date: July 6, 2009.

3. Cabot Oil & Gas Corporation, Pad ID: Heitsman P1A, ABR-20090703, Springville Township, Susquehanna County, Pa.; Consumptive Use of up to 3.575 mgd; Approval Date: July 6, 2009.

4. Cabot Oil & Gas Corporation, Pad ID: Teel P7, ABR-20090704, Springville Township, Susquehanna County, Pa.; Consumptive Use of up to 3.575 mgd; Approval Date: July 6, 2009.

5. Cabot Oil & Gas Corporation, Pad ID: Gesford P2, ABR-20090705, Dimock Township, Susquehanna County, Pa.; Consumptive Use of up to 3.575 mgd; Approval Date: July 6, 2009.

6. Cabot Oil & Gas Corporation, Pad ID: LarueC P2, ABR-20090706, Dimock Township, Susquehanna County, Pa.; Consumptive Use of up to 3.575 mgd; Approval Date: July 6, 2009.

7. Cabot Oil & Gas Corporation, Pad ID: SmithR P2, ABR-20090707, Springville Township, Susquehanna County, Pa.; Consumptive Use of up to 3.575 mgd; Approval Date: July 6, 2009.

8. EnerVest Operating, LLC, Pad ID: Wood #1, ABR-20090708, Athens Township, Bradford County, Pa.; Consumptive Use of up to 2.000 mgd; Approval Date: July 6, 2009.

9. EnerVest Operating, LLC, Pad ID: Harris #1, ABR-20090709, Smithfield Township, Bradford County, Pa.; Consumptive Use of up to 2.000 mgd; Approval Date: July 6, 2009.

10. EnerVest Operating, LLC, Pad ID: Gerbino #1, ABR-20090710, Ridgebury Township, Bradford County, Pa.; Consumptive Use of up to 2.000 mgd; Approval Date: July 6, 2009.

11. EnerVest Operating, LLC, Pad ID: Warren #1, ABR-20090711, Ridgebury Township, Bradford County, Pa.; Consumptive Use of up to 2.000 mgd; Approval Date: July 6, 2009.

12. XTO Energy Incorporated, Pad ID: Marquardt, ABR-20090712, Troy Township, Lycoming County, Pa.; Consumptive Use of up to 1.000 mgd; Approval Date: July 7, 2009.

13. XTO Energy Incorporated, Pad ID: Jenzano, ABR-20090713, Franklin Township, Lycoming County, Pa.; Consumptive Use of up to 1.000 mgd; Approval Date: July 7, 2009.

14. XTO Energy Incorporated, Pad ID: Temple, ABR-20090714, Moreland Township, Lycoming County, Pa.; Consumptive Use of up to 1.000 mgd; Approval Date: July 7, 2009.

15. XTO Energy Incorporated, Pad ID: Hazlak, ABR-20090715, Shrewsbury Township, Lycoming County, Pa.; Consumptive Use of up to 1.000 mgd; Approval Date: July 7, 2009.

16. EXCO-North Coast Energy, Inc., Pad ID: Skyline Golf Course, ABR-20090716, Greenfield Township, Lackawanna County, Pa..; Consumptive Use of up to 2.000 mgd; Approval Date: July 7, 2009.

17. Seneca Resources Corporation, Pad ID: J. Pino Pad G, ABR-20090717, Covington Township, Tioga County, Pa.; Consumptive Use of up to 2.000 mgd; Approval Date: July 8, 2009.

18. Chief Oil & Gas, LLC, Pad ID: Zinck Unit #1H, ABR-20090718, Watson Township, Lycoming County, Pa.; Consumptive Use of up to 5.000 mgd; Approval Date: July 9, 2009.

19. EOG Resources, Inc., Pad ID: PHC 10V, ABR-20090719, Lawrence Township, Clearfield County, Pa.; Consumptive Use of up to 0.999 mgd; Approval Date: July 9, 2009.

20. EOG Resources, Inc., Pad ID: PHC 11V, ABR-20090720, Lawrence Township, Clearfield County, Pa.; Consumptive Use of up to 0.999 mgd; Approval Date: July 9, 2009.

21. EOG Resources, Inc., Pad ID: PHC 6H, ABR-20090721, Lawrence Township, Clearfield County, Pa.; Consumptive Use of up to 0.999 mgd; Approval Date: July 9, 2009.

22. EOG Resources, Inc., Pad ID: PHC 7H, ABR-20090722, Lawrence Township, Clearfield County, Pa.; Consumptive Use of up to 0.999 mgd; Approval Date: July 9, 2009.

23. EOG Resources, Inc., Pad ID: PHC 8H, ABR-20090723, Lawrence Township, Clearfield County, Pa.; Consumptive Use of up to 0.999 mgd; Approval Date: July 9, 2009.

24. Cabot Oil & Gas Corporation, Pad ID: BrooksW P2, ABR-20090724, Springville Township, Susquehanna County, Pa.; Consumptive Use of up to 3.575 mgd; Approval Date: July 16, 2009.

25. Alta Operating Company, LLC, Pad ID: Carrar Pad Site, ABR-20090725, Liberty Township, Susquehanna County, Pa.; Consumptive Use of up to 3.000 mgd; Approval Date: July 16, 2009.

26. Chesapeake Appalachia, LLC, Pad ID: Kent, ABR-20090726, Towanda Township, Bradford County, Pa.; Consumptive Use of up to 7.500 mgd; Approval Date: July 22, 2009.

27. East Resources, Inc., Pad ID: 212 1H, ABR-20090727, Charleston Township, Tioga County, Pa.; Consumptive Use of up to 4.000 mgd; Approval Date: July 23, 2009.

28. East Resources, Inc., Pad ID: 235 1H, ABR-20090728, Sullivan Township, Tioga County, Pa.; Consumptive Use of up to 4.000 mgd; Approval Date: July 23, 2009.

29. East Resources, Inc., Pad ID: Courtney 129 1H-2H, ABR-20090729, Richmond Township, Tioga County, Pa.; Consumptive Use of up to 4.000 mgd; Approval Date: July 23, 2009.

30. East Resources, Inc., Pad ID: Courtney H 255-1H, ABR-20090730, Richmond Township, Tioga County, Pa.; Consumptive Use of up to 4.000 mgd; Approval Date: July 23, 2009.

31. East Resources, Inc., Pad ID: Neal 134D, ABR-20090731, Richmond Township, Tioga County, Pa.; Consumptive Use of up to 4.000 mgd; Approval Date: July 23, 2009.

32. East Resources, Inc., Pad ID: Kipferl 261-1H, ABR-20090732, Jackson Township, Tioga County, Pa.; Consumptive Use of up to 4.000 mgd; Approval Date: July 23, 2009.

33. Cabot Oil & Gas Corporation, Pad ID: BrooksJ P1, ABR-20090733, Springville Township, Susquehanna County, Pa.; Consumptive Use of up to 3.575 mgd; Approval Date: July 27, 2009.

34. Pennsylvania General Energy Company, Pad ID: Tract 729 Well #2384, ABR-20090734, Cummings Township, Lycoming County, Pa.; Consumptive Use of up to 4.900 mgd; Approval Date: July 27, 2009.

35. Pennsylvania General Energy Company, Pad ID: State Forest Tract 293 Well Pad #1, ABR-20090735, Cummings Township, Lycoming County, Pa.; Consumptive Use of up to 4.900 mgd; Approval Date: July 27, 2009.

36. Cabot Oil & Gas Corporation, Pad ID: HunsingerA P1, ABR-20090736, Dimock Township, Susquehanna County, Pa.; Consumptive Use of up to 3.575 mgd; Approval Date: July 28, 2009.

37. Cabot Oil & Gas Corporation, Pad ID: Elk Lake School District P1, ABR-20090737, Dimock Township, Susquehanna County, Pa.; Consumptive Use of up to 3.575 mgd; Approval Date: July 28, 2009.

38. Cabot Oil & Gas Corporation, Pad ID: ChudleighW P1, ABR-20090738, Springville Township, Susquehanna County, Pa.; Consumptive Use of up to 3.575 mgd; Approval Date: July 28, 2009.

39. Chesapeake Appalachia, LLC, Pad ID: Hershberger, ABR-20090739, Terry Township, Bradford County, Pa.; Consumptive Use of up to 7.500 mgd; Approval Date: July 28, 2009.

40. Alta Operating Company, LLC, Pad ID: Five E's FLP Pad Site, ABR-20090801, Middletown Township, Susquehanna County, Pa.; Consumptive Use of up to 3.000 mgd; Approval Date: August 6, 2009.

41. EQT Production Company, Pad ID: Hurd, ABR-20090802, Ferguson Township, Clearfield County, Pa.; Consumptive Use of up to 3.000 mgd; Approval Date: August 10, 2009.

42. Victory Energy Corporation, Pad ID: Wilcox #1, ABR-20090803, Covington Township, Tioga County, Pa.; Consumptive Use of up to 0.999 mgd; Approval Date: August 10, 2009.

43. Victory Energy Corporation, Pad ID: Brookfield #1, ABR-20090804, Brookfield Township, Tioga County, Pa.; Consumptive Use of up to 0.999 mgd; Approval Date: August 10, 2009.

44. Cabot Oil & Gas Corporation, Pad ID: GrimsleyJ P1, ABR-20090805, Dimock Township, Susquehanna County, Pa.; Consumptive Use of up to 3.575 mgd; Approval Date: August 13, 2009.

45. Chesapeake Appalachia, LLC, Pad ID: Eileen, ABR-20090806, Smithfield Township, Bradford County, Pa.; Consumptive Use of up to 7.500 mgd; Approval Date: August 13, 2009.

46. Chesapeake Appalachia, LLC, Pad ID: Claudia, ABR-20090807, Terry Township, Bradford County, Pa.; Consumptive Use of up to 7.500 mgd; Approval Date: August 13, 2009.

47. Chesapeake Appalachia, LLC, Pad ID: Skoronski, ABR-20090808, Northmoreland Township, Wyoming County, Pa.; Consumptive Use of up to 7.500 mgd; Approval Date: August 13, 2009.

48. Chesapeake Appalachia, LLC, Pad ID: Fitzsimmons, ABR-20090809, Albany Township, Bradford County, Pa.; Consumptive Use of up to 7.500 mgd; Approval Date: August 13, 2009.

49. Fortuna Energy, Inc., Pad ID: Klein R, ABR-20090810, Armenia Township, Bradford County, Pa.; Consumptive Use of up to 3.000 mgd; Approval Date: August 13, 2009.

50. Fortuna Energy, Inc., Pad ID: DCNR 587 Pad #2, ABR-20090811, Ward Township, Tioga County, Pa.; Consumptive Use of up to 3.000 mgd; Approval Date: August 13, 2009.

51. Fortuna Energy, Inc., Pad ID: DCNR 587 Pad #4, ABR-20090812, Ward Township, Tioga County, Pa.; Consumptive Use of up to 3.000 mgd; Approval Date: August 13, 2009.

52. Chief Oil & Gas, LLC, Pad ID: Phelps Unit #1H, ABR-20090813, Lathrop Township, Susquehanna County, Pa.; Consumptive Use of up to 5.000 mgd; Approval Date: August 17, 2009.

53. Seneca Resources Corporation, Pad ID: T. Wivell Pad Horizontal; ABR-20090814, Covington Township, Tioga County, Pa.; Consumptive Use of up to 2.000 mgd; Approval Date: August 17, 2009.

54. Chief Oil & Gas, LLC, Pad ID: Bower Unit #1H Drilling Pad, ABR-20090815, Penn Township, Lycoming County, Pa.; Consumptive Use of up to 5.000 mgd; Approval Date: August 18, 2009.

55. Chief Oil & Gas, LLC, Pad ID: Warburton Unit #1H Drilling Pad, ABR-20090816, Penn Township, Lycoming County, Pa.; Consumptive Use of up to 5.000 mgd; Approval Date: August 18, 2009.

56. Anadarko E&P Company, LP, Pad ID: WW Litke #1H, ABR-20090817, Curtin Township, Centre County, Pa.; Consumptive Use of up to 5.000 mgd; Approval Date: August 19, 2009.

57. Covalent Energy Corporation, Pad ID: Ross 1, ABR-20090818, Maryland Town, Otsego County, N.Y.; Consumptive Use of up to 0.0790 mgd; Approval Date: August 24, 2009.

58. EXCO-North Coast Energy, Inc., Pad ID: Treval LLC Unit, ABR-20090819, Greenfield Township, Lackawanna County, Pa.; Consumptive Use of up to 2.000 mgd; Approval Date: August 24, 2009.

59. Anadarko E&P Company, LP, Pad ID: COP Tract 678 #1000H, ABR-20090820, Noyes Township, Clinton County, Pa.; Consumptive Use of up to 5.000 mgd; Approval Date: August 26, 2009.

60. Anadarko E&P Company, LP, Pad ID: COP Tract 678 #1001H & #1002H, ABR-20090821, Noyes Township, Clinton County, Pa.; Consumptive Use of up to 5.000 mgd; Approval Date: August 26, 2009.

61. Anadarko E&P Company, LP, Pad ID: Texas Gulf B #1H, ABR-20090822, Beech Creek Township, Clinton County, Pa.; Consumptive Use of up to 5.000 mgd; Approval Date: August 26, 2009.

62. Anadarko E&P Company, LP, Pad ID: Texas Gulf B #2H & #3H, ABR-20090823, Beech Creek Township, Clinton County, Pa.; Consumptive Use of up to 5.000 mgd; Approval Date: August 26, 2009.

63. East Resources, Inc., Pad ID: Sampson 147 1H-3H, ABR-20090824, Charleston Township, Tioga County, Pa.; Consumptive Use of up to 4.000 mgd; Approval Date: August 27, 2009.

64. East Resources, Inc., Pad ID: Smith 253 1H, ABR-20090825, Sullivan Township, Tioga County, Pa.; Consumptive Use of up to 4.000 mgd; Approval Date: August 27, 2009.

65. Chief Oil & Gas, LLC, Pad ID: Polovitch Unit #1H, ABR-20090826, Nicholson Township, Wyoming County, Pa.; Consumptive Use of up to 5.000 mgd; Approval Date: August 28, 2009.

66. Seneca Resources Corporation, Pad ID: DCNR 595 Pad D, ABR-20090827, Bloss Township, Tioga County, Pa.; Consumptive Use of up to 2.999 mgd; Approval Date: August 28, 2009.

67. Alta Operating Company, LLC, Pad ID: Markovitch Pad Site, ABR-20090828, Bridgewater Township, Susquehanna County, Pa.; Consumptive Use of up to 3.999 mgd; Approval Date: August 31, 2009.

68. East Resources, Inc., Pad ID: Wheeler 268 1H, ABR-20090829, Jackson Township, Tioga County, Pa.; Consumptive use of up to 4.000 mgd; Approval Date: August 31, 2009.

Authority: Public Law 91-575, 84 Stat. 1509 et seq., 18 CFR Parts 806, 807, and 808.

Dated: September 15, 2009.
Thomas W. Beauduy,
Deputy Director.

[FR Doc. E9-23171 Filed 9-24-09; 8:45 am]

BILLING CODE 7040-01-P